DEPARTMENT OF THE TREASURY

Internal Revenue Service

26 CFR Parts 1, 301 and 602

[TD 9040]

RIN 1545-AY56

Guidance Necessary To Facilitate Electronic Tax Administration; Correction

AGENCY: Internal Revenue Service (IRS), Treasury.

ACTION: Correction to final regulations.

SUMMARY: This document contains corrections to final regulations that were published in the Federal Register on Friday, January 31, 2003 (68 FR 4918), regarding regulations that eliminate regulatory impediments to the electronic filing of Form 1040, “U.S. Individual Income Tax Return.”

DATES: This correction is effective January 31, 2003.

FOR FURTHER INFORMATION CONTACT: Joseph P. Dewald, (202) 622-4910 (not a toll-free number).

SUPPLEMENTARY INFORMATION:

Background

The final regulations that are the subject of these corrections are under sections 152 and 7805(f) of the Internal Revenue Code.

Need for Correction

As published, these final regulations contain an error that may prove to be misleading and is in need of clarification.

Correction of Publication

Accordingly, the publication of final regulations (TD 9040), that were the subject of FR Doc. 03-2063, is corrected as follows:

On page 4918, column 3, the regulation heading in the middle of the column, line 5, the “RIN 1545-AY56” is corrected to read “RIN 1545-AY04”.

Cynthia E. Grigsby,
Chief, Regulations Unit, Associate Chief Counsel (Procedure and Administration).

[FR Doc. 03-11487 Filed 5-7-03; 8:45 am]

BILLING CODE 4830-01-P